DEPARTMENT OF TRANSPORTATION

Federal Aviation Administration

[Docket No. FAA-2011-0183]

Access to Aircraft Situation Display to Industry (ASDI) and National Airspace System Status Information (NASSI) Data

AGENCY: Federal Aviation Administration (FAA).

ACTION: Notice of Interim Policy on Limiting Aircraft Data Displayed Via ASDI.

SUMMARY: As a result of recent legislation, the FAA has begun the process of amending the circumstances in which aircraft owners or operators can limit the dissemination of their aircraft data via the FAA's ASDI program. This Notice describes the immediate changes that the FAA has implemented. In a future Notice, the FAA will propose specific procedures by which owners or operators who want the FAA to block their aircraft data can express their preference regarding the FAA's release of that information via ASDI. At that time, the FAA will invite comments on the FAA's proposed procedures. In the interim, any aircraft that the FAA previously blocked under the Certified Security Concerns program published on June 3, 2011, will remain blocked. The FAA will address the future procedures concerning the blocking of those aircraft in its upcoming proposed and final procedures. In addition, the FAA is now accepting and implementing all direct requests of aircraft owners or operators to block their aircraft data from public display of ASDI and NASSI information.

DATES: This interim policy is already in effect and will remain in effect until the FAA adopts final procedures.

FOR FURTHER INFORMATION CONTACT: You may direct any questions on adding aircraft to and removing aircraft from the ASDI block list to Mr. John McClure by telephone at (540) 422-4648 or by electronic mail at john.mcclure@faa.gov.

SUPPLEMENTARY INFORMATION: On November 18, 2011, the President signed into law H.R. 2112, the “Consolidated and Further Continuing Appropriations Act, 2012,” which provides the U.S. Department of Transportation's appropriation for the balance of fiscal year 2012. Section 119A of that statute provides that:

[n]otwithstanding any other provision of law, none of the funds made available under this Act or any prior Act may be used to implement or to continue to implement any limitation on the ability of any owner or operator of a private aircraft to obtain, upon a request to the Administrator of the [FAA], a blocking of that owner's or operator's aircraft registration number from any display of the [FAA's ASDI] data that is made available to the public, except data made available to a Government agency, for the noncommercial flights of that owner or operator.

Pub. L. 112-55, § 119A, 125 Stat. 552, 649.

In light of this appropriation language, the FAA is withdrawing the policy that it published on June 3, 2011, which required owners or operators to submit a Certified Security Concern in order to have their aircraft blocked from the public's view on public ASDI displays. The FAA will not reinstate those limitations on aircraft owners or operators at the conclusion of the current fiscal year. Instead, in early 2012, the FAA will propose and solicit comments on procedures for all aircraft owners and operators to request that the FAA block their aircraft data from the FAA's public ASDI data feed.

In the interim until the FAA finalizes the blocking procedures, the FAA is currently accepting and implementing requests that aircraft owners or operators make directly to the FAA to have their aircraft blocked from public display of ASDI and NASSI information, including those not accompanied by a Certified Security Concern. Moreover, during this period, any aircraft that the FAA previously blocked under the Certified Security Concerns program that took effect in August 2011 will remain blocked, and the FAA will specifically address the future treatment of those aircraft in its upcoming proposed and final procedures.

In order to ensure that the FAA has sufficient information to act on a blocking request, an aircraft owner or operator should specify the registration number of the aircraft, whether the requestor is an owner or operator of the aircraft, and whether the requestor desires ASDI blocking at the FAA data source or at the ASDI Subscriber level. The FAA will construe any request that does not specify whether the request is for blocking at the FAA data source or at the ASDI Subscriber level as a request to block the information at the FAA data source.

Aircraft owners and operators are advised that they may need to re-submit their blocking request at a later date, depending on the specific procedures arrived at after the FAA considers the public views expressed on the upcoming FAA proposal. Aircraft owners and operators are further advised that all ASDI information will remain available without blocking to government users of ASDI and NASSI data.

The FAA's updates to the ASDI aircraft block lists currently take effect on the first Thursday of each month. It is possible that the volume of requests and their timeliness will preclude the FAA from processing some requests in time for them to take effect during the month following their submission. Nevertheless, the FAA will process requests in the order in which the FAA receives them.

Until the FAA adopts final procedures for submitting ASDI block requests, aircraft owners or operators can submit their ASDI block requests via the electronic mail address for the prior program: CertifiedSecurityConcern@faa.gov. Alternatively, aircraft owners or operators can submit their request via regular mail at the mailing address specified in the June 3, 2011, final notice for the Certified Security Concerns program. For requests submitted by regular mail, the FAA prefers to receive those mail requests at: FAA ASDI Blocking Request; ATO System Operations Services, AJR-0; Wilbur Wright Building, Room 3E1500; 600 Independence Avenue SW., Washington, DC 20597.

Given the possibility that additional aircraft owners or operators will elect to have their aircraft data blocked at the ASDI Subscriber level, the FAA expects to amend its current Memorandum of Agreement with the ASDI Subscribers to reflect more specifically the new procedures. Such an amendment will not take place until after the FAA finalizes the procedural changes, however. In the meantime, ASDI Subscribers are advised that the existing Memorandum of Agreement will remain in effect insofar as it requires ASDI Subscribers to block requests based upon Certified Security Concerns, and further, that the FAA construes the Memorandum of Agreement to obligate ASDI Subscribers to filter any other aircraft data at the direction of the FAA.

Issued in Washington, DC, on December 12, 2011.
Michael P. Huerta,
Acting Administrator.

[FR Doc. 2011-32237 Filed 12-15-11; 8:45 am]

BILLING CODE 4910-13-P